DEPARTMENT OF ENERGY

[EERE 2017-VT-00XX]

Agency Information Collection Extension

AGENCY: Office of Energy Efficiency and Renewable Energy, Department of Energy (DOE).

ACTION: Notice.

SUMMARY: The Department of Energy has submitted an information collection package to the OMB for extension under the provisions of the Paperwork Reduction Act of 1995. The package requests a three-year extension of its “Annual Alternative Fuel Vehicle Acquisition Report for State and Alternative Fuel Provider Fleets,” OMB Control Number 1910-5101. This information collection package covers information necessary to ensure the compliance of regulated fleets with the alternative fueled vehicle acquisition requirements imposed by the Energy Policy Act of 1992, as amended, (EPAct).

DATES: Comments regarding this collection must be received on or before April 4, 2018. If you anticipate that you will be submitting comments, but find it difficult to do so within the period of time allowed by this notice, please advise the OMB Desk Officer of your intention to make a submission as soon as possible. The Desk Officer may be telephoned at 202-395-4650 or contacted by email at James.N.Tyree@omb.eop.gov.

ADDRESSES: Written comments should be sent to the:

Desk Officer for the Department of Energy, Office of Information and Regulatory Affairs, Office of Management and Budget, New Executive Office Building, Room 10102, 735 17th Street NW, Washington, DC 20503

And to:

Mr. Dana O'Hara, Office of Energy Efficiency and Renewable Energy (EE-2G), U.S. Department of Energy, 1000 Independence Avenue SW, Washington, DC 20585-0121, or by fax at 202-586-1600, or by email at dana.o'hara@ee.doe.gov.

FOR FURTHER INFORMATION CONTACT: Requests for additional information or copies of the information collection instrument and instructions should be directed to Mr. Dana O'Hara at the contact information listed above or phone at (202)586-8063. The information collection instrument itself is available online at http://www1.eere.energy.gov/vehiclesandfuels/epact/docs/reporting_spreadsheet.xls.

SUPPLEMENTARY INFORMATION: This package contains: (1) OMB No.: 1910-5101; (2) Information Collection Request Title: Annual Alternative Fuel Vehicle Acquisition Report for State Government and Alternative Fuel Provider Fleets; (3) Type of Review: renewal; (4) Purpose: The information is required so that DOE can determine whether alternative fuel provider and State government fleets are in compliance with the alternative fueled vehicle acquisition mandates of sections 501 and 507(o) of the EPAct, whether such fleets should be allocated credits under section 508 of EPAct, and whether fleets that opted into the alternative compliance program under section 514 of EPAct are in compliance with the applicable requirements; (5) Annual Estimated Number of Respondents: approximately 303; (6) Annual Estimated Number of Responses: 335; (7) Annual Estimated Number of Burden Hours: 1,970; (8) Annual Estimated Reporting and Recordkeeping Cost Burden: Beyond costs associated with undertaking the work, there are no additional costs to respondents of either information collection other than the burden hours for reporting and recordkeeping. Costs to undertake the work for the collection are approximated at $47.74/hr of effort (http://www.bls.gov/oes/current/oes_nat.htm#11-0000), for a total of $94,047.80 in labor to research, collect, and respond to the collection for all entities, or $310/respondent.

Statutory Authority: 42 U.S.C. 13251 et seq.

Issued in Washington, DC on: February 27, 2018.
David Howell,
Deputy Director, Vehicle Technologies Office, Energy Efficiency and Renewable Energy.

[FR Doc. 2018-04403 Filed 3-2-18; 8:45 am]

BILLING CODE 6450-01-P